DEPARTMENT OF COMMERCE

International Trade Administration

[A-427-801, A-428-801, A-475-801, A-588-804, A-412-801]

Ball Bearings and Parts Thereof From France, Germany, Italy, Japan, and the United Kingdom: Preliminary Results of Antidumping Duty Administrative Reviews, Preliminary Results of Changed-Circumstances Review, Rescission of Antidumping Duty Administrative Reviews in Part, and Intent To Revoke Order In Part

AGENCY: Import Administration, International Trade Administration, Department of Commerce.

SUMMARY: In response to requests from interested parties, the Department of Commerce (the Department) is conducting administrative reviews of the antidumping duty orders on ball bearings and parts thereof from France, Germany, Italy, Japan, and the United Kingdom for the period May 1, 2008, through April 30, 2009. We have preliminarily determined that sales have been made below normal value by certain companies subject to these reviews. We have also preliminarily determined that myonic GmbH, a firm covered by the administrative review of the order on ball bearings from Germany, is the successor-in-interest to the pre-acquisition myonic GmbH. We are also rescinding the administrative reviews in part for certain firms for which the requests for review of these firms were withdrawn in a timely manner. Finally, we are announcing our intent to revoke the order on ball bearings and parts thereof from the United Kingdom in part with respect to subject merchandise exported and/or sold by Barden/Schaeffler UK to the United States.

We invite interested parties to comment on these preliminary results. Parties who submit comments in these reviews are requested to submit with each argument (1) a statement of the issue and (2) a brief summary of the argument.

DATES: Effective Date: April 28, 2010.

FOR FURTHER INFORMATION CONTACT: Richard Rimlinger, AD/CVD Operations, Office 5, Import Administration, International Trade Administration, U.S. Department of Commerce, 14th Street and Constitution Avenue, NW., Washington, DC 20230; telephone: (202) 482-4477.

SUPPLEMENTARY INFORMATION:

Background

On May 15, 1989, the Department published the antidumping duty orders on ball bearings and parts thereof from France (54 FR 20902), Germany (54 FR 20900), Italy (54 FR 20903), Japan (54 FR 20904), and the United Kingdom (54 FR 20910) in the Federal Register. On June 24, 2009, in accordance with 19 CFR 351.213(b), we published a notice of initiation of administrative reviews of 29 companies subject to these orders. See Initiation of Antidumping and Countervailing Duty Administrative Reviews and Requests for Revocation in Part, 74 FR 30052 (June 24, 2009).

On January 14, 2010, we extended the due date for the completion of these preliminary results of reviews from February 1, 2010, to April 14, 2010.¹ See Ball Bearings and Parts Thereof from France, et al.: Extension of Time Limit for Preliminary Results of Antidumping Duty Administrative Reviews, 75 FR 2108 (January 14, 2010) (Extension Notice).

¹ The original statutory due date for the preliminary results was Sunday, January 31, 2010. In the Extension Notice, we calculated 73 days from Monday, February 1, 2010, and stated that “we are extending the time period for issuing the preliminary results of these reviews by 73 days until April 15, 2010.” The 73rd day from the original statutory due date is April 14, 2010.

As explained in Memorandum from the Deputy Assistant Secretary for Import Administration, the Department has exercised its discretion to toll deadlines for the duration of the closure of the Federal Government from February 5 through February 12, 2010. Thus, all deadlines in these segments of the five proceedings have been extended by seven days. The revised deadline for the preliminary results of these antidumping administrative reviews is now April 21, 2010. See Memorandum to the Record from Ronald Lorentzen, DAS for Import Administration, regarding “Tolling of Administrative Deadlines As a Result of the Government Closure During the Recent Snowstorm,” dated February 12, 2010.

The period of review is May 1, 2008, through April 30, 2009. The Department is conducting these administrative reviews in accordance with section 751 of the Tariff Act of 1930, as amended (the Act).

Scope of the Orders

The products covered by the orders are ball bearings and parts thereof. These products include all antifriction bearings that employ balls as the rolling element. Imports of these products are classified under the following categories: Antifriction balls, ball bearings with integral shafts, ball bearings (including radial ball bearings) and parts thereof, and housed or mounted ball bearing units and parts thereof.

Imports of these products are classified under the following Harmonized Tariff Schedule of the United States (HTSUS) subheadings: 3926.90.45, 4016.93.10, 4016.93.50, 6909.19.50.10, 8431.20.00, 8431.39.00.10, 8482.10.10, 8482.10.50, 8482.80.00, 8482.91.00, 8482.99.05, 8482.99.35, 8482.99.25.80, 8482.99.65.95, 8483.20.40, 8483.20.80, 8483.30.40, 8483.30.80, 8483.50.90, 8483.90.20, 8483.90.30, 8483.90.70, 8708.50.50, 8708.60.50, 8708.60.80, 8708.93.30, 8708.93.60.00, 8708.99.06, 8708.99.31.00, 8708.99.40.00, 8708.99.49.60, 8708.99.58, 8708.99.80.15, 8708.99.80.80, 8803.10.00, 8803.20.00, 8803.30.00, 8803.90.30, 8803.90.90, 8708.30.50.90, 8708.40.75.70, 8708.40.75.80, 8708.50.79.00, 8708.50.89.00, 8708.50.91.50, 8708.50.99.00, 8708.70.60.60, 8708.80.65.90, 8708.93.75.00, 8708.94.75, 8708.95.20.00, 8708.99.55.00, 8708.99.68, and 8708.99.81.80.

Although the HTSUS item numbers above are provided for convenience and customs purposes, the written descriptions of the scope of the orders remain dispositive.

The size or precision grade of a bearing does not influence whether the bearing is covered by one of the orders. The orders cover all the subject bearings and parts thereof (inner race, outer race, cage, rollers, balls, seals, shields, etc.) outlined above with certain limitations. With regard to finished parts, all such parts are included in the scope of the orders. For unfinished parts, such parts are included if they have been heat-treated or if heat treatment is not required to be performed on the part. Thus, the only unfinished parts that are not covered by the orders are those that will be subject to heat treatment after importation. The ultimate application of a bearing also does not influence whether the bearing is covered by the orders. Bearings designed for highly specialized applications are not excluded. Any of the subject bearings, regardless of whether they may ultimately be utilized in aircraft, automobiles, or other equipment, are within the scope of the orders.

For a list of scope determinations which pertain to the orders, see the “Memorandum to Laurie Parkhill” regarding scope determinations for the 2008/2009 reviews, dated April 21, 2010, which is on file in the Central Records Unit (CRU) of the main Commerce building, room 1117, in the General Issues record (A-100-001).

Rescission of Reviews in Part

In accordance with 19 CFR 351.213(d), the Department will rescind an administrative review in part “if a party that requested a review withdraws the request within 90 days of the date of the publication of notice of initiation of the requested review.” Subsequent to the initiation of these reviews, we received timely withdrawals of the requests we had received for the reviews as follows:

Country | Company
France | SNR Roulements (SNR).
Germany | RWG Frankenjura-Industrie Flugwerklager GmbH.
| SNR Walzlager GmbH.
Japan | Asahi Seiko Co. Ltd.
| Nippon Pillow Block Co., Ltd.
| Japanese Aero Engine Bearings Corporation.

Because there are no other requests for review of the above-named firms, we are rescinding the reviews with respect to these companies in accordance with 19 CFR 351.213(d)(1).

In addition, on August 31, 2009, the Department revoked, in part, the antidumping duty order on ball bearings and parts thereof from Germany as it applies to all subject merchandise exported and/or sold by Gebrüder Reinfurt GmbH & Co. KG (GRW). See Ball Bearings and Parts Thereof From France, et al.: Final Results of Antidumping Duty Administrative Reviews and Revocation of an Order in Part, 74 FR 44819, 44820 (August 31, 2009). The effective date of the revocation is May 1, 2008. Therefore, we are also rescinding the review of the 2008/2009 period with respect to GRW.

Selection of Respondents

Due to the large number of companies in the reviews and the resulting administrative burden to review each company for which a request had been made and not withdrawn, the Department exercised its authority to limit the number of respondents selected for individual examination in these reviews. Where it is not practicable to examine all known exporters/producers of subject merchandise because of the large number of such companies, section 777A(c)(2) of the Act allows the Department to limit its examination to either a sample of exporters, producers, or types of products that is statistically valid, based on the information available at the time of selection, or exporters and producers accounting for the largest volume of subject merchandise from the exporting country that can be reasonably examined.

Accordingly, in June 2009 we requested information concerning the quantity and value of sales to the United States from the 29 exporters/producers for which we had initiated reviews. We received responses from all of the exporters/producers by July 2009. Some of the companies withdrew their requests for review prior to our selection of respondents for individual examination. Based on our analysis of the responses and our available resources, we chose to examine the sales of certain companies. See Memorandum to Laurie Parkhill, dated July 31, 2009, for the detailed analysis of the selection process for each country-specific review. We selected the following companies for individual examination:

Country | Company
France | SKF France.
| SNR.²
Germany | Schaeffler KG.
| myonic GmbH (myonic).
Italy | Schaeffler Italia S.r.l. (formerly FAG Italia S.p.A.).
| SKF Industrie S.p.A./Somecat S.p.A. (SKF Italy).
Japan | NTN Corporation.
| NSK Ltd.
United Kingdom | Barden/Schaeffler UK.
| NSK Bearings Europe Ltd. (NSK U.K.).

Non-Selected Respondents

² Request withdrawn; see “Rescission of Reviews in Part” section above.

For responding companies under review of the orders on merchandise from Germany and Japan that were not individually examined, we have assigned the simple-average margin of the two selected respondents in each respective review. Therefore, we have applied, for these preliminary results, the rate of 11.94 percent (Germany) and the rate of 10.97 percent (Japan) to the firms not individually examined in the respective reviews. See Memorandum to the File entitled “Calculation of Simple-Average Margins” under A-100-001 in the CRU.

With respect to the responding company which remains under review and which we did not select for individual examination in the review of the order on subject merchandise from France (Microturbo SAS), we have assigned the margin we have calculated for SKF France of 6.86 percent to this firm. With respect to the responding companies which remain under review and which we did not select for individual examination in the review of the order on subject merchandise from the United Kingdom (SKF UK; Timken UK Ltd. and Timken Aerospace UK Ltd.), we have disregarded the de minimis margin we calculated for Barden/Schaeffler UK and assigned the margin we have calculated for NSK U.K. of 6.85 percent to these firms.

Verification

As provided in section 782(i) of the Act, we have verified information provided by the following companies: Myonic; Schaeffler Italia S.r.l.; SKF Italy; NTN Corporation; Barden/Schaeffler UK; NSK U.K.

We conducted these verifications using standard verification procedures including the examination of relevant sales and financial records and the selection and review of original documentation containing relevant information. Our verification results are outlined in the public versions of our verification reports which are on file in CRU, room 1117 of the main Department building.

Export Price and Constructed Export Price

For the price to the United States, we used export price (EP) or constructed export price (CEP) as defined in sections 772(a) and (b) of the Act, as appropriate. Due to the extremely large volume of U.S. transactions that occurred during the period of review and the resulting administrative burden involved in calculating individual margins for all of these transactions, we sampled CEP sales in accordance with section 777A of the Act. When a selected firm made more than 10,000 CEP sales transactions to the United States of merchandise subject to a particular order, we reviewed CEP sales that occurred during sample weeks. We selected one week from each two-month period in the review period, for a total of six weeks, and analyzed each transaction made in those six weeks. The sample weeks are as follows: June 22, 2008-June 28, 2008; August 10, 2008-August 16, 2008; August 31, 2008-September 6, 2008; November 16, 2008-November 22, 2008; February 1, 2009-February 7, 2009; April 26, 2009-April 30, 2009. We reviewed all EP sales transactions which the respondents we selected for individual examination made during the period of review.

We calculated EP and CEP based on the packed F.O.B., C.I.F., or delivered price to unaffiliated purchasers in, or for exportation to, the United States. We made deductions, as appropriate, for discounts and rebates. See 19 CFR 351.401(c) and 351.102(b)(38). We also made deductions for any movement expenses in accordance with section 772(c)(2)(A) of the Act.

Certain companies received freight revenues or packing revenues from the customer for certain U.S. sales. In Certain Orange Juice from Brazil: Final Results and Partial Rescission of Antidumping Duty Administrative Review, 73 FR 46584 (August 11, 2008) (OJ Brazil), and accompanying Issues and Decision Memorandum at Comment 7, and Polyethylene Retail Carrier Bags from the People's Republic of China: Final Results of Antidumping Duty Administrative Review, 74 FR 6857 (February 11, 2009) (PRC Bags), and accompanying Issues and Decision Memorandum at Comment 6, the Department determined to treat such revenues as an offset to the specific expenses for which they were intended to compensate. Accordingly, we have used these respondents' revenues as an offset to their respective expenses.

Consistent with section 772(d)(1) of the Act, we calculated CEP by deducting selling expenses associated with economic activities occurring in the United States which includes commissions, direct selling expenses, and U.S. repacking expenses. In accordance with section 772(d)(1) of the Act, we also deducted those indirect selling expenses associated with economic activities occurring in the United States and the profit allocated to expenses deducted under section 772(d)(1) of the Act in accordance with sections 772(d)(3) and 772(f) of the Act. In accordance with section 772(f) of the Act, we computed profit based on the total revenues realized on sales in both the U.S. and home markets, less all expenses associated with those sales. We then allocated profit to expenses incurred with respect to U.S. economic activity based on the ratio of total U.S. expenses to total expenses for both the U.S. and home markets. Finally, we made an adjustment for profit allocated to these expenses in accordance with section 772(d)(3) of the Act.

With respect to subject merchandise to which value was added in the United States prior to sale to unaffiliated U.S. customers, e.g., parts of bearings that were imported by U.S. affiliates of foreign exporters and then further processed into other products which were then sold to unaffiliated parties, we determined that the special rule for merchandise with value added after importation under section 772(e) of the Act applied to all firms that added value in the United States with the exception of myonic.

Section 772(e) of the Act provides that, when the subject merchandise is imported by an affiliated person and the value added in the United States by the affiliated person is likely to exceed substantially the value of the subject merchandise, we shall determine the CEP for such merchandise using the price of identical or other subject merchandise sold by the exporter or producer to an unaffiliated customer if there is a sufficient quantity of sales to provide a reasonable basis for comparison and we determine that the use of such sales is appropriate. If there is not a sufficient quantity of such sales or if we determine that using the price of identical or other subject merchandise is not appropriate, we may use any other reasonable basis to determine CEP.

To determine whether the value added is likely to exceed substantially the value of the subject merchandise, we estimated the value added based on the difference between the averages of the prices charged to the first unaffiliated purchaser for the merchandise as sold in the United States and the averages of the prices paid for the subject merchandise by the affiliated purchaser. Based on this analysis, we determined that the estimated value added in the United States by the further-manufacturing firms accounted for at least 65 percent of the price charged to the first unaffiliated customer for the merchandise as sold in the United States. See 19 CFR 351.402(c) for an explanation of our practice on this issue. Therefore, we preliminarily determine that the value added is likely to exceed substantially the value of the subject merchandise for NTN Corporation, NSK Ltd., NSK U.K., SKF France, SKF Italy, and Schaeffler KG. Also, for these firms, we determine that there was a sufficient quantity of sales remaining to provide a reasonable basis for comparison and that the use of these sales is appropriate. For the analysis of the decision not to require further-manufactured data, see the Department's company-specific preliminary analysis memoranda dated April 21, 2010. Accordingly, for purposes of determining dumping margins for the sales subject to the special rule, we have used the weighted-average dumping margins calculated on sales of identical or other subject merchandise sold to unaffiliated persons.

For myonic, we determined that the special rule did not apply because the value added in the United States did not exceed substantially the value of the subject merchandise. Consequently, myonic submitted a complete response to our further-manufacturing questionnaire which included the costs of the further processing performed by myonic Inc. in the United States. We analyzed these sales in the same manner as non-further-manufactured products but deducted the value of further manufacturing incurred in the United States and an amount for profit attributable to the further manufacturing. We used the data reported in myonic's response to calculate the further-manufacturing expense which we deducted from U.S. prices.

There were no other claimed or allowed adjustments to EP or CEP sales by the respondents.

Home-Market Sales

Based on a comparison of the aggregate quantity of home-market and U.S. sales and absent any information that a particular market situation in the exporting country did not permit a proper comparison, we determined that the quantity of foreign like product sold by all respondents in the exporting country was sufficient to permit a proper comparison with the sales of the subject merchandise to the United States pursuant to section 773(a)(1) of the Act. Each company's quantity of sales in its home market was greater than five percent of its sales to the U.S. market. Therefore, in accordance with section 773(a)(1)(B)(i) of the Act, we based normal value on the prices at which the foreign like product was first sold for consumption in the exporting country in the usual commercial quantities and in the ordinary course of trade and, to the extent practicable, at the same level of trade as the EP or CEP sales.

Due to the extremely large number of home-market transactions that occurred during the period of review and the resulting administrative burden involved in examining all of these transactions, we sampled sales to calculate normal value in accordance with section 777A of the Act. When a selected firm had more than 10,000 home-market sales transactions on a country-specific basis, we used sales in sample months that corresponded to the sample weeks which we selected for U.S. CEP sales, sales in a month prior to the period of review, and sales in the month following the period of review. The sample months were February 2008, June 2008, August 2008, September 2008, November 2008, February 2009, April 2009, and June 2009.

The Department may calculate normal value based on a sale to an affiliated party only if it is satisfied that the price to the affiliated party is comparable to the price at which sales are made to parties not affiliated with the exporter or producer, i.e., sales were made at arm's-length prices. See 19 CFR 351.403(c). We excluded from our analysis sales to affiliated customers for consumption in the home market that we determined not to be at arm's-length prices. To test whether these sales were made at arm's-length prices, we compared the prices of sales of comparable merchandise to affiliated and unaffiliated customers, net of all rebates, movement charges, direct selling expenses, and packing. Pursuant to 19 CFR 351.403(c) and in accordance with our practice, when the prices charged to an affiliated party were, on average, between 98 and 102 percent of the prices charged to unaffiliated parties for merchandise comparable to that sold to the affiliated party, we determined that the sales to the affiliated party were at arm's-length prices. See Antidumping Proceedings: Affiliated Party Sales in the Ordinary Course of Trade, 67 FR 69186 (November 15, 2002). We included in our calculation of normal value those sales to affiliated parties that were made at arm's-length prices. See company-specific preliminary analysis memoranda dated April 21, 2010.

Cost of Production

In accordance with section 773(b) of the Act, in the last completed segment of the relevant country-specific proceeding we disregarded below-cost sales for NTN Corporation, NSK Ltd., SKF France, SKF Italy, Schaeffler Italia S.r.l., Schaeffler KG, NSK U.K., and Barden/Schaeffler UK. Furthermore, based on an allegation from The Timken Company that myonic was making sales in its home market at below-cost prices, we initiated a cost-of-production (COP) investigation concerning myonic's home-market sales. See Memorandum to Laurie Parkhill dated November 16, 2009. Therefore, for the instant reviews, we have reasonable grounds to believe or suspect that sales by all of the above companies of the foreign like product under consideration for the determination of normal value in these reviews may have been made at prices below the COP as provided by section 773(b)(2)(A)(ii) of the Act. Pursuant to section 773(b)(1) of the Act, we conducted COP investigations of sales by these firms in the respective home markets.

In accordance with section 773(b)(3) of the Act, we calculated the COP based on the sum of the costs of materials and fabrication employed in producing the foreign like product, the selling, general, and administrative (SG&A) expenses, and all costs and expenses incidental to packing the merchandise. In our COP analysis, we used the home-market sales and COP information provided by each respondent in its questionnaire responses or, in the case of Schaeffler Italia S.r.l., its largest supplier.

After calculating the COP and in accordance with section 773(b)(1) of the Act, we tested whether home-market sales of the foreign like product were made at prices below the COP within an extended period of time in substantial quantities and whether such prices permitted the recovery of all costs within a reasonable period of time. We compared model-specific COPs to the reported home-market prices less any applicable movement charges, discounts, and rebates.

Pursuant to section 773(b)(2)(C) of the Act, when less than 20 percent of a respondent's sales of a given product were at prices less than the COP, we did not disregard any below-cost sales of that product because the below-cost sales were not made in substantial quantities within an extended period of time. When 20 percent or more of a respondent's sales of a given product during the period of review were at prices less than the COP, we disregarded the below-cost sales because they were made in substantial quantities within an extended period of time pursuant to sections 773(b)(2)(B) and (C) of the Act and because, based on comparisons of prices to weighted-average COPs for the period of review, we determined that these sales were at prices which would not permit recovery of all costs within a reasonable period of time in accordance with section 773(b)(2)(D) of the Act. Based on this test, we disregarded below-cost sales with respect to NTN Corporation, NSK Ltd., SKF France, SKF Italy, Schaeffler Italia S.r.l., myonic, Schaeffler KG, NSK U.K., and Barden/Schaeffler UK. See the relevant company-specific preliminary analysis memoranda dated April 21, 2010.

Model-Match Methodology

For all respondents, where possible, we compared U.S. sales with sales of the foreign like product in the home market. Specifically, in making our comparisons, if an identical home-market model was reported, we made comparisons to weighted-average home-market prices that were based on all sales which passed the COP test of the identical product during the relevant month. We calculated the weighted-average home-market prices on a level of trade-specific basis. If there were no contemporaneous sales of an identical model, we identified the most similar home-market model.

To determine the most similar model, we limited our examination to models sold in the home market that had the same bearing design, load direction, number of rows, and precision grade. Next, we calculated the sum of the deviations (expressed as a percentage of the value of the U.S. model's characteristics) of the inner diameter, outer diameter, width, and load rating for each potential home-market match and selected the bearing with the smallest sum of the deviations. If two or more bearings had the same sum of the deviations, we selected the model that was sold at the same level of trade as the U.S. sale and was the closest contemporaneous sale to the U.S. sale. If two or more models were sold at the same level of trade and were sold equally contemporaneously, we selected the model with the smallest difference-in-merchandise adjustment.

Finally, if no bearing sold in the home market had a sum of the deviations that was less than 40 percent, we concluded that no appropriate comparison existed in the home market. For a full discussion of the model-match methodology we have used in these reviews, see Ball Bearings and Parts Thereof from France, et al.: Final Results of Antidumping Duty Administrative Reviews, 70 FR 54711 (September 16, 2005), and accompanying Issues and Decision Memorandum at Comments 2, 3, and 5 and Antifriction Bearings and Parts Thereof from France, et al.: Preliminary Results and Partial Rescission of Antidumping Duty Administrative Reviews, 70 FR 25538, 25542 (May 13, 2005).

Normal Value

Home-market prices were based on the packed, ex-factory, or delivered prices to affiliated or unaffiliated purchasers. When applicable, we made adjustments for differences in packing and for movement expenses in accordance with sections 773(a)(6)(A) and (B) of the Act. Where companies received freight or packing revenues from the home-market customer, we offset these expenses in accordance with OJ Brazil and PRC Bags as discussed above. We also made adjustments for differences in cost attributable to differences in physical characteristics of the merchandise pursuant to section 773(a)(6)(C)(ii) of the Act and 19 CFR 351.411 and for differences in circumstances of sale in accordance with section 773(a)(6)(C)(iii) of the Act and 19 CFR 351.410. For comparisons to EP, we made circumstance-of-sale adjustments by deducting home-market direct selling expenses from, and adding U.S. direct selling expenses to, normal value. For comparisons to CEP, we made circumstance-of-sale adjustments by deducting home-market direct selling expenses from normal value. We also made adjustments, when applicable, for home-market indirect selling expenses to offset U.S. commissions in EP and CEP calculations.

In accordance with section 773(a)(1)(B)(i) of the Act, we based normal value, to the extent practicable, on sales at the same level of trade as the EP or CEP. If normal value was calculated at a different level of trade, we made an adjustment, if appropriate and if possible, in accordance with section 773(a)(7)(A) of the Act. See “Level of Trade” section below.

Constructed Value

In accordance with section 773(a)(4) of the Act, we used constructed value as the basis for normal value when there were no usable sales of the foreign like product in the comparison market. We calculated constructed value in accordance with section 773(e) of the Act. We included the cost of materials and fabrication, SG&A expenses, U.S. packing expenses, and profit in the calculation of constructed value. In accordance with section 773(e)(2)(A) of the Act, we based SG&A expenses and profit on the amounts incurred and realized by each respondent in connection with the production and sale of the foreign like product in the ordinary course of trade for consumption in the home market.

When appropriate, we made adjustments to constructed value in accordance with section 773(a)(8) of the Act, 19 CFR 351.410, and 19 CFR 351.412 for circumstance-of-sale differences and level-of-trade differences. For comparisons to EP, we made circumstance-of-sale adjustments by deducting home-market direct selling expenses from and adding U.S. direct selling expenses to constructed value. For comparisons to CEP, we made circumstance-of-sale adjustments by deducting home-market direct selling expenses from constructed value. We also made adjustments, when applicable, for home-market indirect selling expenses to offset U.S. commissions in EP and CEP comparisons.

When possible, we calculated constructed value at the same level of trade as the EP or CEP. If constructed value was calculated at a different level of trade, we made an adjustment, if appropriate and if possible, in accordance with sections 773(a)(7) and (8) of the Act.

Level of Trade

To the extent practicable, we determined normal value for sales at the same level of trade as the U.S. sales (either EP or CEP). When there were no sales at the same level of trade, we compared U.S. sales to home-market sales at a different level of trade. The normal-value level of trade is that of the starting-price sales in the home market. When normal value is based on constructed value, the level of trade is that of the sales from which we derived SG&A and profit.

To determine whether home-market sales were at a different level of trade than U.S. sales, we examined stages in the marketing process and selling functions along the chain of distribution between the producer and the unaffiliated customer. If the home-market sales were at a different level of trade from that of a U.S. sale and the difference affected price comparability, as manifested in a pattern of consistent price differences between the sales on which normal value is based and home-market sales at the level of trade of the export transaction, we made a level-of-trade adjustment under section 773(a)(7)(A) of the Act. See, e.g., Notice of Final Determination of Sales at Less Than Fair Value: Certain Cut-to-Length Carbon Steel Plate From South Africa, 62 FR 61731, 61732 (November 19, 1997).

Where the respondent reported no home-market levels of trade that were equivalent to the CEP level of trade and where the CEP level of trade was at a less advanced stage than any of the home-market levels of trade, we were unable to calculate a level-of-trade adjustment based on the respondent's home-market sales of the foreign like product. Furthermore, we have no other information that provides an appropriate basis for determining a level-of-trade adjustment. For respondents' CEP sales in such situations, to the extent possible, we determined normal value at the same level of trade as the U.S. sale to the first unaffiliated customer and made a CEP-offset adjustment in accordance with section 773(a)(7)(B) of the Act. The CEP-offset adjustment to normal value was subject to the so-called “offset cap,” calculated as the sum of home-market indirect selling expenses up to the amount of U.S. indirect selling expenses deducted from CEP (or, if there were no home-market commissions, the sum of U.S. indirect selling expenses and U.S. commissions).

For a company-specific description of our level-of-trade analyses for these preliminary results, see Memorandum to Laurie Parkhill, dated April 21, 2010, entitled “Ball Bearings and Parts Thereof from Various Countries: 2008/2009 Level-of-Trade Analysis,” on file in the CRU, room 1117.

Weighted-Average Margin

In order to derive a single weighted-average margin for each respondent, we weight-averaged the EP and CEP weighted-average margins (using the EP and CEP, respectively, as the weighting factors). To accomplish this when we sampled CEP sales, we first calculated the total dumping margins for all CEP sales during the review period by multiplying the sample CEP margins by the ratio of total days in the review period to days in the sample weeks. We then calculated a total net value for all CEP sales during the review period by multiplying the sample CEP total net value by the same ratio. Finally, we divided the combined total dumping margins for both EP and CEP sales by the combined total value for both EP and CEP sales to obtain the weighted-average margin.

Intent To Revoke

On May 18, 2009, Barden/Schaeffler UK requested revocation of the order on ball bearings and parts thereof from the United Kingdom as it pertains to its sales.

Under section 751(d)(1) of the Act, the Department “may revoke, in whole or in part” an antidumping duty order upon completion of a review. Although Congress has not specified the procedures that the Department must follow in revoking an order, the Department has developed a procedure for revocation that is set forth at 19 CFR 351.222. Under 19 CFR 351.222(b)(2), the Department may revoke an antidumping duty order in part if it concludes that (A) an exporter or producer has sold the merchandise at not less than normal value for a period of at least three consecutive years, (B) the exporter or producer has agreed in writing to its immediate reinstatement in the order if the Secretary concludes that the exporter or producer, subsequent to the revocation, sold the subject merchandise at less than normal value, and (C) the continued application of the antidumping duty order is no longer necessary to offset dumping. Section 351.222(b)(3) of the Department's regulations states that, in the case of an exporter that is not the producer of subject merchandise, the Department normally will revoke an order in part under 19 CFR 351.222(b)(2) only with respect to subject merchandise produced or supplied by those companies that supplied the exporter during the time period that formed the basis for revocation.

A request for revocation of an order in part for a company previously found dumping must address three elements. The company requesting the revocation must do so in writing and submit the following statements with the request: (1) The company's certification that it sold the subject merchandise at not less than normal value during the current review period and that, in the future, it will not sell at less than normal value; (2) the company's certification that, during each of the consecutive years forming the basis of the request, it sold the subject merchandise to the United States in commercial quantities; (3) the agreement to reinstatement in the order if the Department concludes that, subsequent to revocation, the company has sold the subject merchandise at less than normal value. See 19 CFR 351.222(e)(1). We preliminarily determine that the request dated May 18, 2009, from Barden/Schaeffler UK meets all of the criteria under 19 CFR 351.222(e)(1).

With regard to the criteria of 19 CFR 351.222(b)(2), our preliminary margin calculations show that Barden/Schaeffler UK sold ball bearings at not less than normal value during the current review period. See “Preliminary Results of Reviews” section below. In addition, it sold ball bearings at not less than normal value in the two previous administrative reviews in which it was reviewed. See Ball Bearings and Parts Thereof From France, et al.: Final Results of Antidumping Duty Administrative Reviews and Rescission of Reviews in Part, 73 FR 52823 (September 11, 2008), for the period May 1, 2006, through April 30, 2007, and Ball Bearings and Parts Thereof From France, et al.: Final Results of Antidumping Duty Administrative Reviews and Revocation of an Order in Part, 74 FR 44819 (August 31, 2009), for the period May 1, 2007, through April 30, 2008. Based on our examination of the sales data submitted by Barden/Schaeffler UK, we preliminarily determine that Barden/Schaeffler UK sold the subject merchandise in the United States in commercial quantities in each of the consecutive years cited by Barden/Schaeffler UK to support its request for revocation. See the preliminary analysis memorandum for Barden/Schaeffler UK dated April 21, 2010, for more details. Thus, we preliminarily find that Barden/Schaeffler UK had zero or de minimis dumping margins for the last three consecutive years and sold in commercial quantities all three years. Also, we preliminarily determine that application of the antidumping duty order to Barden/Schaeffler UK is no longer warranted for the following reasons: (1) The company had zero or de minimis margins for a period of at least three consecutive years; (2) the company has agreed to immediate reinstatement of the order if we find that it has resumed making sales at less than fair value; (3) the continued application of the order is not otherwise necessary to offset dumping.

Therefore, we preliminarily determine that Barden/Schaeffler UK qualifies for revocation from the order on ball bearings and parts thereof from the United Kingdom pursuant to 19 CFR 351.222(b)(2) and, thus, we preliminarily determine to revoke the order with respect to ball bearings and parts thereof from United Kingdom exported and/or sold to the United States by Barden/Schaeffler UK. If our intent to revoke results in revocation of the order in part with respect to merchandise exported and/or sold by Barden/Schaeffler UK, the proposed effective date of the revocation is May 1, 2009.

Preliminary Results of Changed-Circumstances Review

On January 21, 2010, we initiated a changed-circumstances review upon being informed by myonic that on March 5, 2009, Minebea Co., Ltd. (Minebea), purchased 100 percent of the shares of myonic GmbH Holding, myonic's parent company, and that an unaffiliated investor purchased myonic Inc. which was myonic's U.S. subsidiary. See Ball Bearings and Parts Thereof From Germany: Initiation of Antidumping Duty Changed-Circumstances Review, 75 FR 3444 (January 21, 2010). We also announced that we would conduct the changed-circumstances review in the context of the 2008/2009 administrative review.

In determining whether one company is the successor to another for purposes of applying the antidumping duty law, the Department examines a number of factors including, but not limited to, changes in management, production facilities, supplier relationships, and customer base. See Ball Bearings and Parts Thereof from Japan: Initiation and Preliminary Results of Changed-Circumstances Review, 71 FR 14679, 14680 (March 23, 2006), unchanged in Notice of Final Results of Antidumping Duty Changed-Circumstances Review: Ball Bearings and Parts Thereof from Japan, 71 FR 26452 (May 5, 2006) (collectively CCR Japan), and Industrial Phosphoric Acid From Israel; Final Results of Antidumping Duty Changed Circumstances Review, 59 FR 6944 (February 14, 1994). Although no single or even several of these factors will necessarily provide a dispositive indication of succession, generally the Department will consider one company to be a successor to another company if its resulting operation is similar to that of its predecessor. See CCR Japan and Brass Sheet and Strip From Canada; Final Results of Antidumping Duty Administrative Review, 57 FR 20460 (May 13, 1992), at Comment 1. Thus, if the evidence demonstrates that, with respect to the production and sale of the subject merchandise, the new company operates as the same business entity as the prior company, the Department will assign the new company the cash-deposit rate of its predecessor. Id. See also Circular Welded Non-Alloy Steel Pipe From the Republic of Korea; Preliminary Results of Antidumping Duty Changed Circumstances Review, 63 FR 14679 (March 26, 1998), unchanged in Circular Welded Non-Alloy Steel Pipe From Korea; Final Results of Antidumping Duty Changed Circumstances Review, 63 FR 20572 (April 27, 1998), in which the Department found that a company which only changed its name and did not change its operations is a successor-in-interest to the company before it changed its name.

In its responses dated October 1, 2009, December 14, 2009, February 3, 2010, and March 9, 2010, myonic provided information to demonstrate that it is the successor-in-interest to the pre-acquisition myonic. Myonic provided contract documents which provided evidence of Minebea's acquisition of myonic GmbH Holding and an unaffiliated investor's purchase of myonic Inc. Myonic provided the chart of management structures and list of managing directors which state that the company's management did not change. We have visited myonic's production facilities and reviewed myonic's production of ball bearings and we did not find differences in business operations between the pre-acquisition myonic and post-acquisition myonic. We examined information concerning myonic's customers in the home market and the United States and found that the post-acquisition myonic retained several of its pre-acquisition customers. We reviewed myonic Inc.'s invoices and the invoices of Minebea's U.S. affiliate, New Hampshire Ball Bearings, Inc. (NHBB), and found that NHBB's myonic USA Division sells myonic's ball bearings in the United States. The post-acquisition myonic purchased raw materials from suppliers which differ from the suppliers from which the pre-acquisition myonic purchased raw materials but the types of input remained the same for both pre-acquisition myonic and post-acquisition myonic. See the preliminary analysis memorandum for myonic dated April 21, 2010, for more details.

Based on the above, we preliminarily determine that the post-acquisition myonic is the successor-in-interest to the pre-acquisition myonic.

Preliminary Results of Reviews

As a result of our reviews, we preliminarily determine that the following percentage weighted-average dumping margins on ball bearings and parts thereof from various countries exist for the period May 1, 2008, through April 30, 2009:

Company | Margin (percent)
France
SKF France | 6.86
Microturbo SAS 6 | .86
Germany
myonic | 21.72
Schaeffler KG | 2.16
SKF GmbH | 11.94
Italy
SKF Italy | 13.04
Schaeffler Italia S.r.l | 1.98
Japan
Aisin Seiki Company Ltd | 10.97
JTEKT Corporation (formerly known as Koyo Seiko Co.) | 10.97
Makino Milling Machine Company Ltd | 10.97
Mazda Motor Corporation | 10.97
Nachi- Fujikoshi Corporation | 10.97
Nissan Motor Company Ltd | 10.97
NSK Ltd | 8.48
NTN Corporation | 13.46
Sapporo Precision, Inc., and Tokyo Precision, Inc | 10.97
Univance Corporation | 10.97
Yamazaki Mazak Trading Corporation | 10.97
United Kingdom
Barden/Schaeffler UK | 0.00
NSK U.K | 6.85
SKF UK | 6.85
Timken UK Ltd. and Timken Aerospace UK Ltd | 6.85

Comments

We will disclose the calculations we used in our analysis to parties to these reviews within five days of the date of publication of this notice. See 19 CFR 351.224(b). Any interested party may request a hearing within 30 days of the date of publication of this notice. See 19 CFR 351.310(c). If requested, a general-issues hearing and any hearings regarding issues related solely to specific countries will be held at the main Department building at times and locations to be determined.

Interested parties who wish to request a hearing or to participate if one is requested must submit a written request to the Assistant Secretary for Import Administration within 30 days of the date of publication of this notice. See 19 CFR 351.310(c). Requests should contain the following: (1) The party's name, address, and telephone number; (2) the number of participants; (3) a list of issues to be discussed.

Issues raised in hearings will be limited to those raised in the respective case briefs. Case briefs from interested parties and rebuttal briefs, limited to the issues raised in the respective case briefs, may be submitted not later than the following dates:

Case | Briefs due | Rebuttals due
France | May 26, 2010 | June 2, 2010.
Germany ³ | May 27, 2010 | June 3, 2010.
Italy | May 28, 2010 | June 4, 2010.
Japan | June 1, 2010 | June 8, 2010.
United Kingdom | June 2, 2010 | June 9, 2010.
General Issues | June 3, 2010 | June 10, 2010.

Parties who submit case briefs (see 19 CFR 351.309(c)) or rebuttal briefs (see 19 CFR 351.309(d)) in these proceedings are requested to submit with each argument (1) a statement of the issue and (2) a brief summary of the argument. Parties are also encouraged to provide a summary of the arguments not to exceed five pages and a table of statutes, regulations, and cases cited.

³ Briefs should include any comments with respect to the changed-circumstances review concerning myonic.

The Department intends to issue the final results of these administrative reviews, including the results of its analysis of issues raised in any such written briefs or at the hearings, if held, within 120 days of the date of publication of this notice.

Assessment Rates

The Department shall determine, and U.S. Customs and Border Protection (CBP) shall assess, antidumping duties on all appropriate entries. In accordance with 19 CFR 351.212(b)(1), we have calculated, whenever possible, an exporter/importer (or customer)-specific assessment rate or value for merchandise subject to these reviews as described below.

The Department clarified its “automatic assessment” regulation on May 6, 2003. This clarification will apply to entries of subject merchandise during the period of review produced by companies selected for individual examination in these preliminary results of reviews for which the reviewed companies did not know their merchandise was destined for the United States. In such instances, we will instruct CBP to liquidate unreviewed entries at the country-specific all-others rate if there is no rate for the intermediate company(ies) involved in the transaction. For a full discussion of this clarification, see Antidumping and Countervailing Duty Proceedings: Assessment of Antidumping Duties, 68 FR 23954 (May 6, 2003).

For the companies which were not selected for individual examination, we will instruct CBP to apply the rates listed above to all entries of subject merchandise produced and/or exported by such firms.

We intend to issue liquidation instructions to CBP 15 days after publication of the final results of these reviews.

Export-Price Sales

With respect to EP sales, for these preliminary results, we divided the total dumping margins (calculated as the difference between normal value and EP) for each exporter's importer or customer by the total number of units the exporter sold to that importer or customer. We will direct CBP to assess the resulting per-unit dollar amount against each unit of merchandise in each of that importer's/customer's entries under the relevant order during the review period.

Constructed Export-Price Sales

For CEP sales (sampled and non-sampled), we divided the total dumping margins for the reviewed sales by the total entered value of those reviewed sales for each importer. We will direct CBP to assess the resulting percentage margin against the entered customs values for the subject merchandise on each of that importer's entries under the relevant order during the review period. See 19 CFR 351.212(b).

Cash-Deposit Requirements

The following deposit requirements will be effective upon publication of the notice of final results of administrative reviews for all shipments of subject merchandise entered, or withdrawn from warehouse, for consumption on or after the date of publication, as provided by section 751(a)(1) of the Act: (1) The cash-deposit rates for the reviewed companies will be the rates established in the final results of the reviews; (2) for previously reviewed or investigated companies not listed above, the cash-deposit rate will continue to be the company-specific rate published for the most recent period; (3) if the exporter is not a firm covered in these reviews, a prior review, or the less-than-fair-value investigations but the manufacturer is, the cash-deposit rate will be the rate established for the most recent period for the manufacturer of the merchandise; (4) the cash-deposit rate for all other manufacturers or exporters will continue to be the all-others rate for the relevant order made effective by the final results of reviews published on July 26, 1993. See Final Results of Antidumping Duty Administrative Reviews and Revocation in Part of an Antidumping Duty Order, 58 FR 39729 (July 26, 1993). For ball bearings from Italy, see Antifriction Bearings (Other Than Tapered Roller Bearings) and Parts Thereof From France, et al.; Final Results of Antidumping Duty Administrative Reviews and Partial Termination of Administrative Reviews, 61 FR 66472, 66521 (December 17, 1996). These rates are the all-others rates from the relevant less-than-fair-value investigations. These deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

These preliminary results of administrative reviews, preliminary results of changed-circumstances review, rescission of antidumping duty administrative reviews in part, and intent to revoke an order in part are issued and published in accordance with sections 751(a)(1), 751(b)(1), and 777(i)(1) of the Act.

Dated: April 21, 2010.
Ronald K. Lorentzen,
Deputy Assistant Secretary for Import Administration.

[FR Doc. 2010-9865 Filed 4-27-10; 8:45 am]

BILLING CODE 3510-DS-P